DEPARTMENT OF TRANSPORTATION

Federal Aviation Administration

Notice of Intent To Rule on Request To Release Airport Property at the Waco Regional Airport, Waco, TX

AGENCY: Federal Aviation Administration (FAA), DOT.

ACTION: Notice of request to release airport property.

SUMMARY: The FAA proposes to rule and invite public comment on the release of land at Waco Regional Airport under the provisions of Section 125 of the Wendell H. Ford Aviation Investment Reform Act for the 21st Century (AIR 21).

DATES: Comments must be received on or before December 8, 2003.

ADDRESSES: Comments on this application may be mailed or delivered to the FAA at the following address: Mr. J. Michael Nicely, Manager, Federal Aviation Administration, Southwest Region, Airports Division, Texas Airports Development Office, ASW-650, Fort Worth, Texas 76193-0650.

In addition, one copy of any comments submitted to the FAA must be mailed or delivered to Mr. George Johnson, Assistant City Manager, Waco, Texas, at the following address: City of Waco, P.O. Box 2570, Waco, Texas 76702.

FOR FURTHER INFORMATION CONTACT: Mr. Guillermo Y. Villalobos, Program Manager, Federal Aviation Administration, Texas Airports Development Office, ASW-650, 2601 Meacham Boulevard, Fort Worth, Texas 76193-0650.

The request to release property may be reviewed in person at this same location.

SUPPLEMENTARY INFORMATION: The FAA invites public comment on the request to release property Waco Regional Airport under the provisions of the AIR 21.

On November 7, 2003, the FAA determined that the request to release property at Waco Regional Airport submitted by the city met the procedural requirements of the Federal Aviation Regulations, part 155. The FAA may approve the request, in whole or in part, no later than December 12, 2003.

The following is a brief overview of the request:

The Waco Regional Airport requests the release of 1.8 acres of non-aeronautical airport property. The release of property will allow for the construction of a fire station. The sale is estimated to provide $27,500 to allow the purchase of riding mower equipment.

Any person may inspect the request in person at the FAA office listed above under FOR FURTHER INFORMATION CONTACT.

In addition, any person may, upon request, inspect the application, notice and other documents germane to the application in person at the Waco Regional Airport.

Issued in Fort Worth, Texas, on November 14, 2003.
Naomi L. Saunders,
Manager, Airports Division.

[FR Doc. 03-29846 Filed 11-28-03; 8:45 am]

BILLING CODE 4910-13-M